DEPARTMENT OF COMMERCE

International Trade Administration

[A-570-952, A-583-844]

Narrow Woven Ribbons With Woven Selvedge From the People's Republic of China and Taiwan: Final Results of the Expedited Sunset Reviews of the Antidumping Duty Orders

AGENCY: Enforcement and Compliance, International Trade Administration, Department of Commerce.

SUMMARY: As a result of these expedited sunset reviews, the Department of Commerce (Commerce) finds that revocation of the antidumping duty (AD) orders on narrow woven ribbons with woven selvedge from the People's Republic of China (China) and Taiwan would likely lead to continuation or recurrence of dumping at the levels indicated in the “Final Results of Sunset Review” section of this notice.

DATES: Applicable November 16, 2021.

FOR FURTHER INFORMATION CONTACT: Reginald Anadio, AD/CVD Operations, Office IV, Enforcement and Compliance, International Trade Administration, U.S. Department of Commerce, 1401 Constitution Avenue NW, Washington, DC 20230; telephone: (202) 482-3166.

SUPPLEMENTARY INFORMATION:

Background

On August 2, 2021, Commerce published the notice of initiation of the sunset reviews of the AD Orders ¹ pursuant to section 751(c) of the Tariff Act of 1930, as amended (the Act).² In accordance with 19 CFR 351.218(d)(1)(i) and (ii), Commerce received notices of intent to participate in these sunset reviews from Berwick Offray LLC and its wholly owned subsidiary, Lion Ribbon Company LLC (collectively, the domestic interested party), within 15 days after the date of publication of the Initiation Notice.³ The domestic interested party claimed interested party status under section 771(9)(C) of the Act.

¹ See Notice of Antidumping Duty Orders: Narrow Woven Ribbons With Woven Selvedge from Taiwan and the People's Republic of China: Antidumping Duty Orders, 75 FR 53632 (September 1, 2010), as amended in Narrow Woven Ribbons With Woven Selvedge from Taiwan and the People's Republic of China: Amended Antidumping Duty Orders, 75 FR 56982 (September 17, 2010) (collectively, AD Orders).

² See Initiation of Five-Year (Sunset) Reviews, 86 FR 41439 (August 2, 2021) (Initiation Notice).

³ See Domestic Interested Party's Letter, “Narrow Woven Ribbons with Woven Selvedge from the People's Republic of China: Notice of Intent to Participate in Sunset Review,” dated August 17, 2021; see also Domestic Interested Party's Letter, “Narrow Woven Ribbons with Woven Selvedge from Taiwan: Notice of Intent to Participate in Sunset Review,” dated August 17, 2021.

Commerce received adequate substantive responses to the Initiation Notice from the domestic interested party within the 30-day period specified in 19 CFR 351.218(d)(3)(i).⁴ Commerce received no substantive responses from any respondent interested parties. On September 20, 2021, Commerce notified the U.S. International Trade Commission that we did not receive an adequate substantive response from respondent interested parties.⁵ In accordance with section 751(c)(3)(B) of the Act and 19 CFR 351.218(e)(1)(ii)(C)(2), Commerce conducted expedited, i.e., 120-day, sunset reviews of the AD Orders.

⁴ See Domestic Interested Party's Letter, “Narrow Woven Ribbons with Woven Selvedge from the People's Republic of China: Substantive Response to the Notice of Initiation of Sunset Review,” dated September 1, 2021; see also Domestic Interested Party's Letter, “Narrow Woven Ribbons with Woven Selvedge from Taiwan: Substantive Response to the Notice of Initiation of Sunset Review,” dated September 1, 2021.

⁵ See Commerce's Letter, “Sunset Reviews Initiated on August 2, 2021,” dated September 20, 2021.

Scope of the AD Orders

The products subject to the AD Orders are narrow woven ribbons with woven selvedges, and are currently classified in the Harmonized Tariff Schedule of the United States (HTSUS) under item numbers: 5806.32.1020; 5806.32.1030; 5806.32.1050 and 5806.32.1060. Subject merchandise also may enter under subheadings 5806.31.00; 5806.32.20; 5806.39.20; 5806.39.30; 5808.90.00; 5810.91.00; 5810.99.90; 5903.90.10; 5903.90.25; 5907.00.60; and 5907.00.80 and under statistical categories 5806.32.1080; 5810.92.9080; 5903.90.3090; and 6307.90.9889. The HTSUS numbers are provided for convenience and customs purposes. A full description of the scope of the AD Orders is contained in the Issues and Decision Memorandum.⁶ The written description is dispositive.

⁶ See Memorandum, “Issues and Decision Memorandum for the Expedited Sunset Reviews of the Antidumping Duty Orders on Narrow Woven Ribbons with Woven Selvedge from the People's Republic of China and Taiwan,” dated concurrently with, and hereby adopted by, this notice (Issues and Decision Memorandum).

Analysis of Comments Received

All issues raised in this review are addressed in the Issues and Decision Memorandum, including the likelihood of continuation or recurrence of dumping in the event of revocation of the AD Orders and the magnitude of dumping margins likely to prevail if the AD Orders were revoked. A list of topics discussed in the Issues and Decision Memorandum is included as an appendix to this notice. Parties can find a complete discussion of all issues raised in this review and the corresponding recommendations in the Issues and Decision Memorandum, which is on file electronically via Enforcement and Compliance's Antidumping and Countervailing Duty Centralized Electronic Service System (ACCESS). ACCESS is available to registered users at http://access.trade.gov. In addition, a complete version of the Issues and Decision Memorandum can be found at https://access.trade.gov/public/FRNoticesListLayout.aspx.

Final Results of Sunset Review

Pursuant to sections 751(c) and 752(c)(1) and (3) of the Act, Commerce determines that revocation of the AD Orders would be likely to lead to continuation or recurrence of dumping and the magnitude of the margins of dumping likely to prevail would be weighted-average margins up to the following percentages:

Country | Weighted- average margin (percent)
China | 247.65
Taiwan | 4.37

Notification Regarding Administrative Protective Orders

This notice serves as a reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

Commerce is issuing and publishing these final results and notice in accordance with sections 751(c), 752(c), and 777(i)(1) of the Act and 19 CFR 351.221(c)(5)(ii).

Dated: November 9, 2021.
Ryan Majerus,
Deputy Assistant Secretary for Policy and Negotiations, Performing the Nonexclusive Functions and Duties of The Assistant Secretary for Enforcement and Compliance.

Appendix—List of Topics Discussed in the Issues and Decision Memorandum

I. Summary

II. Background

III. Scope of the Orders

IV. History of the Orders

V. Legal Framework

VI. Discussion of the Issues

VII. Final Results of Expedited Sunset Reviews

VIII. Recommendation

[FR Doc. 2021-24961 Filed 11-15-21; 8:45 am]

BILLING CODE 3510-DS-P